DEPARTMENT OF HEALTH AND HUMAN SERVICES

Food and Drug Administration

[Docket No. 2007N-0462]

Compliance Policy Guide Sec. 555.700 Revocation of Tolerances for Cancelled Pesticides (CPG 7120.29); Withdrawal

AGENCY: Food and Drug Administration, HHS.

ACTION: Notice.

SUMMARY: The Food and Drug Administration (FDA) is announcing the withdrawal of Compliance Policy Guide Sec. 555.700 Revocation of Tolerances for Cancelled Pesticides (CPG 7120.29) (CPG Sec. 555.700). CPG Sec. 555.700 is no longer necessary because the policy stated in the CPG is obsolete. Elsewhere in this issue of the Federal Register, FDA is announcing the availability of a draft revision of CPG Sec. 575.100 Pesticide Chemical Residues in Food and Feed—Enforcement Criteria (CPG 7141.01) (CPG Sec 575.100).

DATES: The withdrawal is effective January 8, 2008.

ADDRESSES: Submit written requests for single copies of CPG Sec. 555.700 to the Division of Compliance Policy (HFC-230), Office of Enforcement, Office of Regulatory Affairs, Food and Drug Administration, 5600 Fishers Lane, Rockville, MD 20857. Send two self-addressed adhesive labels to assist that office in processing your request or fax your request to 240-632-6861.

A copy of the CPG may be seen in the Division of Dockets Management (HFA-305), Food and Drug Administration, 5630 Fishers Lane, rm. 1061, Rockville, MD 20852, between 9 a.m. and 4 p.m., Monday through Friday.

FOR FURTHER INFORMATION CONTACT: Michael E. Kashtock, Center for Food Safety and Applied Nutrition, Food and Drug Administration, College Park, MD 20740-3835, 301-436-2022, FAX 301-436-2651.

SUPPLEMENTARY INFORMATION: CPG Sec. 555.700 stated FDA's policy to routinely establish action levels for pesticide chemical residues to replace tolerances that are revoked when the Environmental Protection Agency (EPA) cancels registration for the pesticide under the Federal Insecticide, Fungicide, and Rodenticide Act. Such residues may persist in the environment for many years. Section 408(l)(4) of the Federal Food, Drug, and Cosmetic Act (21 U.S.C. 346a(l)(4)), as amended by the Food Quality Protection Act of 1996, authorizes EPA to establish tolerances for pesticide chemical residues that will unavoidably persist in the environment. Therefore, because EPA may establish tolerances for such pesticide chemical residues, the policy set forth in CPG Sec. 555.700 is obsolete. Consequently, FDA is withdrawing CPG Sec. 555.700, in its entirety, to eliminate this obsolete policy.

Previously established action levels are listed in FDA's CPG Sec. 575.100 Pesticide Chemical Residues in Food and Feed—Enforcement Criteria (CPG 7141.01). A notice announcing availability of a draft revision of CPG Sec. 575.100 is published elsewhere in this issue of the Federal Register.

Dated: December 31, 2007.
Margaret O'K. Glavin,
Associate Commissioner for Regulatory Affairs.

[FR Doc. E8-127 Filed 1-7-08; 8:45 am]

BILLING CODE 4160-01-S